DEPARTMENT OF ENERGY

Federal Energy Regulatory Commission

Notice of Effectiveness of Exempt Wholesale Generator and Foreign Utility Company Status

Wilmot Energy Center, LLC | EG20-240-000
Mohave County Wind Farm LLC | EG20-241-000 Weaver Wind Maine Master Tenant, LLC
| EG20-242-000
Weaver Wind, LLC | EG20-243-000
Harts Mill Solar, LLC | EG20-244-000
Townsite Solar, LLC | EG20-245-000
Altamont Winds LLC | EG20-246-000
Bluebell Solar II, LLC | EG20-247-000
Concho Bluff LLC | EG20-248-000
Hill Top Energy Center LLC | EG20-249-000
Topaz Generating, LLC | EG20-250-000
Muscle Shoals Solar, LLC | EG21-1-000
Fort Hills Energy LP | FC20-15-000]

Take notice that during the month of November 2020, the status of the above-captioned entities as Exempt Wholesale Generators or Foreign Utility Companies became effective by operation of the Commission's regulations. 18 CFR 366.7(a) (2020).

Dated: December 14, 2020.
Kimberly D. Bose,
Secretary.

[FR Doc. 2020-27926 Filed 12-17-20; 8:45 am]

BILLING CODE 6717-01-P